DEPARTMENT OF AGRICULTURE

Rural Utilities Service

7 CFR Part 1728

Specifications and Drawings for 12.47/7.2 kV Line Construction

AGENCY: Rural Utilities Service, USDA.

ACTION: Final rule.

SUMMARY: The Rural Utilities Service (RUS), an agency delivering the U.S. Department of Agriculture's Rural Development Utilities Programs, is amending its regulations regarding RUS Bulletin 50-3, Specifications Drawings for 12.5/7.2 kV Line Construction. This bulletin is currently incorporated by reference in RUS regulations and the revised and renumbered RUS Bulletin 1728F-804 would continue to be incorporated by reference. This rule is necessary to provide the latest RUS specifications, materials, equipment, and construction methods for RUS electric borrowers to construct their rural overhead electric distribution systems. RUS proposes to update, renumber and reformat this bulletin in accordance with the agency's new publications and directives system.

DATES: This rule will be effective October 21, 2005.

Incorporation by reference: RUS Bulletin 1728F-804, Specifications and Drawings for 12.47/7.2 kV Line Construction, is approved for the incorporation by reference by the Director, Office of the Federal Register as of October 21, 2005.

FOR FURTHER INFORMATION CONTACT: Mr. James L. Bohlk, Electric Engineer, Distribution Branch, Electric Staff Division, Rural Utilities Service, U.S. Department of Agriculture, 1400 Independence Avenue, SW., STOP 1569, Washington, DC 20250-1569. Telephone: (202) 720-1967. Fax (202) 720-7491. e-mail: Jim.Bohlk@usda.gov.

SUPPLEMENTARY INFORMATION:

Executive Order 12866

This rule is exempted from the Office of Management and Budget (OMB) review for purposes of Executive Order 12866 and, therefore, has not been reviewed by OMB.

Executive Order 12372

This final rule is excluded from the scope of Executive Order 12372, Intergovernmental Consultation, which may require consultation with State and local officials. See the final rule-related notice title “Department Programs and Activities Excluded from Executive Order 12372” (50 FR 47034) advising that rural electrification loans and loan guarantees are excluded from the scope of Executive Order 12372.

Executive Order 12988

This final rule has been reviewed under Executive Order 12988, Civil Justice Reform. RUS has determined that this final rule meets the applicable standards provided in section 3 of the Executive Order. In addition, all state and local laws and regulations that are in conflict with this rule will be preempted, no retroactive effect will be given to this rule, and, in accordance with section 212(e) of the Department of Agriculture Reorganization Act of 1994 (7 U.S.C. 6912 (e)), administrative appeals procedures, if any are required, must be exhausted before an action against the Department or its agencies may be initiated.

Executive Order 13132, Federalism

The policies contained in this rule do not have any substantial direct effect on states, on the relationship between the national government and the States, or on the distribution of power and responsibilities among the various levels of government. Nor does this rule impose substantial direct compliance costs on State and local governments. Therefore, consultation with states is not required.

Regulatory Flexibility Act Certification

It has been determined that the Regulatory Flexibility Act is not applicable to this rule since the Rural Utilities Service is not required by 5 U.S.C. 551 et seq. or any other provision of law to publish a notice of final rule making with respect to the subject matter of this rule.

Information Collection and Recordkeeping Requirements

This rule contains no additional information collection or recordkeeping requirements approval under the Paperwork Reduction Act of 1995 (44 U.S.C. Chapter 35).

Unfunded Mandates

This final rule contains no Federal mandates (under the regulatory provision of the Unfunded Mandates Reform Act of 1995 (2 U.S.C. Chapter 25)) for State, local, and tribal governments or the private sector. Thus, this final rule is not subject to the requirements of sections 202 and 205 of the Unfunded Mandates Reform Act.

National Environmental Policy Act Certification

The Administrator of RUS has determined that this final rule will not significantly affect the quality of the human environment as defined by the National Environment Policy Act of 1969 (42 U.S.C. 4321 et seq.). Therefore, this action does not require an environmental impact statement or assessment.

Catalog of Federal Domestic Assistance

The program described by this final rule is listed in the Catalog of Federal Domestic Assistance Programs under No. 10.850, Rural Electrification Loans and Loan Guarantees. This catalog is available on a subscription basis from the Superintendent of Documents, U.S. Government Printing Office, Washington, DC 20402-9325, telephone number (202) 512-1800.

Background

Pursuant to the Rural Electrification Act of 1936, as amended (7 U.S.C. 901 et seq.), the Rural Utilities Services (RUS) is amended Title 7 CFR Chapter XVII, Part 1728, Electric Standards and Specification for Materials and Construction, by revising RUS Bulletin 50-3 (D-804), “Specification and Drawings for 12.5/7.2 kV Line Construction.” This revised bulletin will be renumbered as RUS Bulletin 1728F-804 and will be re-titled as, “Specification and Drawings for 12.47/7.2 kV Line Construction.” RUS maintains a system of bulletins that contains construction standards and specifications for materials and equipment which must be utilized when system facilities are constructed by RUS electric and telecommunication borrowers in accordance with the RUS loan contract. These standards and specifications contain standard construction units, material, and equipment units used in RUS electric and telecommunication borrowers' systems.

RUS Bulletin 50-3 provides standard construction drawings and specification of 12.5/7.2 kV overhead electric distribution lines. RUS is proposing to change the bulletin number room RUS Bulletin 50-3 (Standard D 804) to RUS Bulletin 1728F-804 (D 804). The change in the bulletin number and reformatting is necessary to conform to RUS new publications and directives system. This rule will incorporate the bulletin by reference in 7 CFR 1728.97.

Changes to RUS Bulletin 50-3 (D 804)

RUS has made the following changes and additions to RUS Bulletin 50-3 (D-804) renumbering it as Bulletin 1728F-804:

(1) The new bulletin contains a total of 382 assemblies. (An assembly is a construction unit which incorporates the description and quantity of material needed to construct the assembly and a dimensioned schematic diagram showing how the material needs to be arranged or assembled to meet RUS specifications.) Bulletin 50-3 currently contains a total of 257 assemblies. In both bulletins, more than one similar assembly is often depicted on one drawing.

(2) Of the 382 total assemblies in the new bulletin, 215 are new assemblies and 95 of these 215 new assemblies are new “narrow profile” assemblies. The drawing numbers and titles of the 215 new assemblies and the 24 new guide drawings of the new bulletin are tabulated in Exhibit 4 at the end of new Bulletin 1728F-804.

(3) Of the 382 total assemblies in the new bulletin, 167 are standard assemblies of present Bulletin 50-3 that are being redrawn, renumbered, and re-used in new Bulletin 1728f-804. Of these 167 re-used assemblies, 94 are previous standard assemblies with no material changes, 37 are previous standard assemblies with only a change in the number or type of washers, and 36 are previous standard assemblies with other slight material changes.

(4) The new bulletin also contains 32 new guide drawings and 8 renumbered, redrawn and thus re-used guide drawings from Bulletin 50-3. Present Bulletin 50-3 contains a total of 32 guide drawings. (A guide drawing is a dimensioned schematic diagram that shows details of how the material of one or more assemblies needs to be arranged or assembled to meet RUS specifications but does not list the material required for construction.)

(5) A listing the 167 re-used assemblies and 8 re-used guide drawings, with both their old numbers and their new assigned numbers, and the required assembly material changes, are tabulated in new Exhibit 3 at the end of new Bulletin 1728F-804. Exhibit 3 also lists the 90 assemblies and 24 guide drawings that are being discontinued from Bulletin 50-3.

(6) Each of the 382 assemblies and 40 guide drawings in new Bulletin 1728F-804 are being given a new number in accordance with the assembly numbering format as updated by RUS in 1998. In the updated numbering format, each letter and number in the assembly or drawing number has a functional meaning.

(7) New Exhibit 5 at the end of the new bulletin summarizes the new RUS assembly numbering format and briefly explains the meanings of each letter or number in the new assembly and drawing numbers.

(8) The assembly drawings, the 19 drawing indexes and Exhibit 3 of new Bulletin 1728F-804 show the new assigned assembly numbers and the old numbers (in parentheses) of the 167 re-used assemblies and 8 re-used guide drawings from present Bulletin 50-3. RUS allows the borrowers to use either the old or the new assigned assembly number, but only for the 167 re-used standard assemblies and 8 re-used guide drawings. The borrower is being required to make the slight material changes to 73 of the re-used assemblies and to construct the assemblies as depicted.

(9) The new bulletin is being reformatted into 19 separate sections or categories. Each section contains an index of drawings and also the construction drawings of assemblies designed to perform a similar function. Several sections contain construction specifications pertaining to the assemblies in that section.

(10) New tables are being added in the new bulletin that define maximum line angles (contained in Exhibit 1), permitted unbalanced conductor tensions on crossarm assemblies (contained in Exhibit 2), and soil classification data (contained in Section F).

(11) Exhibit, 1 being added at the end of the new bulletin, documents the formula and data used to determine the maximum line angles in the tables. Also, Exhibit 2, being added at the end of the new bulletin, documents the formula and data used to determine permitted unbalanced conductor tensions on crossarm assemblies.

(12) Each drawing is being given a new, uniform, shorter, and more descriptive title. Each drawing also has a new, uniform title block that contains, when applicable, the primary voltage and number of phases of the depicted assemblies.

(13) “Design parameters” which define and usually limit maximum line angles or mechanical loading (tension) is being added, when applicable, to the drawings of the new bulletin.

RUS is discontinuing 90 assemblies and 24 guide drawings presently contained in Bulletin 50-3 for one or more of the following reasons:

• They contain material no longer accepted by RUS for use by RUS borrowers,

• Either the spacing or the strength of the assembly no longer meets the minimum requirements of RUS or the rules of the National Electrical Safety Code (NESC),

• They contain technical errors such as a neutral conductor support that is not coordinated with the primary conductor support,

• They are redundant of other assemblies or for other reasons may no longer be needed, or

• They require so many modifications that it is prudent that they be discontinued and subsequently replaced with new assemblies.

RUS also is modifying and adding to the construction specifications in present Bulletin 50-3 incorporate the following significant changes in Bulletin 1728F-804:

(1) Compliance and specific references to the 2002 Edition of the NESC,

(2) Definitions of and provisions for the use of large and extra large conductors,

(3) Permission to lower the neutral conductor under specific circumstances,

(4) Requirement to use a washer under the shoulder of 7.2kV crossarm pins,

(5) Requirement to use a 3-inch (minimum) square, curved, washer abutting the pole for primaries, neutrals and guys that deadend on poles,

(6) Requirement to multiply applied loads by the appropriate NESC overload factors,

(7) Minimum insulated spacing (wood and fiberglass) between primary conductors and guys,

(8) Choice of arrester location on transformer assemblies,

(9) Requirement that all secondary and service wires be covered conductors,

(10) Permission to use stirrups provided certain given criteria are met,

(11) Permission to insulate guy wires provided certain given criteria are met,

(12) Permission to modify assembly drawings without further approval from RUS within certain given parameters, and

(13) New rights-of-ways clearing specifications.

RUS Responses to Comments

On February 12, 2004, RUS published a proposed rule in the Federal Register at 69 FR 6926 to incorporate by reference new Bulletin 1728F-804 into its rules and regulations. A copy of the proposed bulletin was made available to the general public on the RUS website and through the U.S. mail. Members of the public were allowed 60 days to furnish RUS with written comments regarding the proposed bulletin. Subsequently, employees of the following rural electric cooperatives and other business firms furnished RUS with written comments, suggestions and questions regarding the proposed bulletin:

(1) Adams Electric Cooperative, Inc.

(2) Allgeier, Martin and Associates, Inc.

(3) Cookson Hills & East Central Electric Cooperative.

(4) Harrison Rural Electric Membership Cooperative.

(5) Hi-Line Engineering, LLC.

(6) Minnesota Valley Cooperative Light and Power.

(7) Morgan County Rural Electric Association.

(8) National Rural Electric Cooperative Association.

(9) Northern Neck Electric Cooperative.

In response to the comments and suggestions received, RUS has added the following new assemblies and drawings to the bulletin:

Fifty-three assemblies with various combinations of secondary brackets, swinging clevis', extension eyebolts and insulated extension links to the A3, A5, B3, B5, C3 and C5 series of assemblies and also added top views of assemblies to improve clarity, assemblies D1.5N and D1.5NP to utilize offset neutral brackets on double circuit, narrow profile assemblies, equipment assemblies R3.3 S2.3, Y3.1, and Y3.4, guide drawing G1.2 (and consequently deleted some notes and the schematic diagram on guide drawing G1.1), transformed the 9 “tying guides” in Section L into 20 new assemblies, transformed guide drawings E5.1G and S1.1NG into assemblies, modified assemblies B4.2 and C4.2 to permit line angles from 15 to 90 degrees, and transformed them into guide drawings.

Also in response to the comments and suggestions received, RUS also made the following changes and corrections:

(1) Corrected 85 errors and omissions pertaining to old assembly numbers on the drawings, indexes, and exhibits,

(2) Changes the guy attachment location on 24 drawings to be consistent with all of the other guyed assemblies,

(3) Changed the crossarm attachment location on 9 drawings so that all crossarms are installed 18 inches from the top of the pole on all assemblies to utilize standard pole drilling and to accommodate pole top pins when needed,

(4) Added connectors (item “p”) and jumper wires (item “av”) to the material lists on 18 drawings,

(5) Deleted notes referring to “tying guides” from 22 assemblies because they were deemed not useful nor needed,

(6) Removed the note “(When Req'd)” referring to down guys from 12 drawings and added the same note to 5 drawings for the purpose of accuracy and consistency,

(7) Added the ANSI class and size of spool insulator to the design parameters of the 10 drawings that refer to the maximum line angles in Tables VI and VII,

(8) Added or changed the distance from the face of the pole to the nearest vertical jumper wired to 19 inches on 8 drawings to comply with the rules of the NESC,

(9) Added an additional note in the design parameters utilizing pre-assembled crossarms (item “gj”) to multiply the manufacturer's strength rating by the appropriate NESC strength factor to determine the permitted loading on the assembly.

RUS also made the following changes to specific assembly drawings in response to the comments and suggestions received:

• Changed drawing numbers “A1”, “A2” and “N5” to be the same as the assembly numbers on the drawings to be consistent with all of the other drawing numbers and removed “Miscellaneous” from the drawing title,

• Eliminating drawing “A5” and relocated its assemblies to other drawings,

• Corrected the line angle table reference errors in the design parameters on drawings C1.3N, C2.3N and C2.3N,

• Added a top view to assemblies A3.1, B3.1 and C3.1,

• Increased the permitted line angle on assemblies A4.1, B4.1, and C4.1 to the range of 90 to 175 degrees,

• Deleted the note regarding down guys on the drawings of assemblies A3.2, A3.3 and A4.1 because it was confusing. RUS added information regarding the proper installation and location of guys to the “Specifications for Guying Assemblies,”

• Corrected error in design parameters of drawing of assembly C6.21 to refer to Note 2,

• Changed the design parameters in the drawings of assemblies C6.51 and A2.021 to reference Table B of Exhibit 2,

• Deleted the un-referenced word “ungrounded” from guide drawing G3.2G,

• Added a note referencing NESC Table 232-2 to guide drawing K4.1G,

• Added crossarm mounting hardware to assembly S1.01 and a note indicating that these switches may be installed on double deadend crossarm assemblies,

• Corrected the drafting errors pertaining to the conductors on assembly Q1.1 and darkened the secondary conductors line on drawings Q1.1, Q2.1 and Q3.1 to improve clarity,

• Added a note to assembly drawings Q3.2 and Q3.3 requiring customer-owned or maintained equipment be located a minimum for 5 feet from the assembly,

• Changed the materials on grounding assembly H1.1 to show the installation of steel ground wire connecting to the anchor rod,

• Added a note to drawing Q3.2 recommending PT's for voltages over 240 volts,

• Added a note to drawing S2.32 indicating that RUS accepted pre-assembled switches may be used and to install them according to the manufacturer's specifications,

• Added notes to guide drawings D3.1G and D4.1G to adjust material for only one neutral attachment subassembly and that the minimum clearance between and guy and any primary conductor shall be 5 feet,

• Modified assembly C5.22 so that the distance from the neutral to the center phase conductor is 4 feet, 0 inches,

• Changed the ground clearance to live parts on assembly drawing Y1.1 to meet NESC requirements; the ground clearance to the bottom of the regulator platform (which does not have braces) was found to conform to the NESC and was not changed.

The following are RUS' responses to comments, suggestions and questions that did not result in any additions or changes by RUS to the proposed assemblies or drawings:

(1) RUS did not change any assembly numbers as suggested in some of the comments, but did add the following to help borrowers understand implement the new assembly numbers:

(a) A new paragraph on the title page of the bulletin states that borrowers are required to use the new specification and drawings, however the borrowers can choose to use the old assembly numbers for 167 specified assemblies that have duel numbers, and

(b) New Exhibit 5 at the end of the bulletin that summarizes the new RUS assembly numbering format and the new numbers' designated meanings. This exhibit also tells where additional information can be found.

(2) RUS found it necessary to renumber the 167 re-used assemblies so that all of the overhead distribution assembly numbers would have a consistent meaning and a standard format. RUS believes that by allowing the dual number system for a majority of the new assemblies, it will aid the borrowers in implementing the new specifications.

(3) RUS recommends that borrowers keep copies of old Bulletin 50-3 for reference purposes and also keep all of their present assemblies in their engineering and accounting records until (1) further guidance is issued by RUS regarding the proper procedure to retire discontinued assemblies and (2) updates and publishes Bulletin 1767B-2, “Work Order Procedure (Electric).”

(4) Whereas some borrowers may prefer not to turn any line angles on tangent or small angle pole top assemblies, NESC rules and RUS requirements are not violated if angles no greater than those referenced in the design parameters on the drawings are turned on these types of assemblies.

(5) Since the main purpose of the vertical style of narrow profile pole top assemblies, (e.g., A1.4N) is not to “straighten the line,” there is no need to offset the neutral conductor in vertical line with the primary conductor(s).

(6) Several drawings state that the depicted assembly is to be used for NESC Grade B construction. The sixth paragraph in the “General Construction Specification” explains some of the needs for Grade B construction. Additional details regarding the rules of the NESC and their applications are beyond the scope of this bulletin.

(7) Page 1 of Exhibit 1 presents the formula, numerical constants and variables used to calculate the permitted line angles on pole top assemblies. In part, the calculated angles are a function of the number of pins installed on the assembly and the RUS designated (allowed) loading on pin and insulator subassemblies. RUS agrees that sometimes it is not readily apparent why some types of pole top assemblies can accommodate larger angles than other types of assemblies. All of the input data, calculations and resulting permitted line angles have been reviewed and found to be correct.

(8) The line angle on the drawing of assembly A4.1 is purposely drawn at an angle less than 90 degrees to show the general range of angles that can be used on this assembly.

(9) RUS believes that it is more convenient for most borrowers to have A4.1 and A4.2 as separate assemblies instead of merging them into one assembly.

(10) RUS agrees that guide drawing A5.7NG does not depict a “squirrel friendly” assembly. Nor is it raptor friendly. If squirrels or raptors are perceived to be a problem in a borrower's specific service area, then RUS recommends using of other assemblies (such as crossarm assemblies) that are available in the new bulletin.

(11) If needed for raptor protection, borrowers may install offset neutral brackets and may install the neutral on either side of the pole of narrow profile assemblies without further approval from RUS if the modified assemblies have a minimum of 4 feet of vertical clearance between the neutral and the primary conductor directly above it.

(12) These specifications are minimum requirements, as a result, borrowers may modify the anchor assembly drawings to show the diameter of the anchor helixes and may modify the drawings of the pole top assemblies to show the maximum permitted transverse loading without approval from RUS,

(13) Borrowers may make copies, re-group and re-arrange the assembly drawings of this bulletin for their own convenience and do not need from RUS,

(14) An extension bracket (item “fl”) is specified by RUS on assembly R1.1 and other similar equipment assemblies to provide climbing space for line workers. The extension bracket may be omitted if the assembly is accessible for work from bucket trucks designed for such work.

(15) The RUS assembly drawings do not show a pre-manufactured platform for the installation of line regulators because these types of platforms have not been accepted for listing in RUS Informational Publication 202-1 (“List of Materials”).

(16) Assembly drawing Q4.1 shows the use of crossarms because a cluster bracket for installing primary metering equipment has not been accepted for listing in RUS Informational Publication 202-1.

(17) RUS believes that restricting conductors to 2,000 pounds is unnecessarily too restrictive.

(18) RUS no longer permits pin type insulator to be installed in a horizontal position, like in old assembly M5-4 because it has been reported that horizontally installed pin insulators sometimes fill with water and when the water froze the insulator cracked.

(19) A new statement was added in the “Conductor Installation Specifications” stating that small conductors can be installed on large conductor assemblies (number suffix “L”) but that their tensions cannot exceed the permitted loads shown design parameters on the assembly drawings.

(20) Assemblies C5.22 and C5.32, whose crossarm mounting position is different that the other crossarm assemblies and have limited applications, are included in the new bulletin upon request by some RUS borrowers.

(21) New single-phase and two-phase assemblies similar to proposed assembly C5.71L for the application of large conductors or NESC Grade B construction were not added to the bulletin because RUS perceives that these additional assemblies would have very limited use.

(22) The suggestion to add several new large conductor assemblies was not used. However, a statement was added in the “General Construction Specifications” that makes it clear that borrowers may modify standard crossarm assemblies to make them suitable for large conductor construction without approval by RUS.

(23) New double deadend assemblies with conductor spacing the same as proposed assemblies C5.22 and C5.32 was not used because these assemblies are not RUS preferred construction and are reduntant of other available assemblies.

(24) RUS added new alternative construction information and details in the “Specifications for Guying Assemblies” for situations where a down guy might need to be installed very close to the neutral conductor on double deadend assemblies.

(25) RUS did not add a new double deadend crossarm assembly with a manufactured crossarm assembly (item “gj”) in which the neutral deadends on the crossarm because this new assembly would have very limited use.

(26) RUS did not add a new assembly with manufactured crossarm assemblies and spacing the same as proposed assembly D6.91 because this assembly would be redundant of new assembly D6.92, is relatively expensive, and thus would have very limited use.

(27) RUS did not add a new, two-phase, feedthrough guide drawing because it is unnecessary. When needed, jumper conductors and connectors can be added to assembly B6.21 similar to that shown on guide drawing C6.52G.

(28) RUS did not add any new double circuit assemblies with one circuit installed above the other circuit because RUS has standardized on the style of double circuit construction as shown on assembly drawings in the new bulletin. The suggested alternative double circuit design can be constructed using assemblies C1.11 and B1.14 with slight material modifications.

(29) No changes were made regarding the guy attachments, bolts, washers, bolt hole sizes, and the permitted loads of proposed assemblies E1.1 and E1.1L. The comments appear to be the result of misunderstanding. The 6,600 pound permitted load of assembly E1.1 is based on the surface area of a 3-inch washer. The 8,500 pound permitted load of assembly E1.1L is based on 85 percent of the RUS designated load (capacity) of the guy attachment with a 4-inch washer. RUS has (already) multiplied the RUS designated strength of the guy attachments by the 0.85 factor to determine the permitted loads shown in the design parameters on the drawings of these assemblies. Both sized washers have thirteen-sixteenths inch bolt holes and can accommodate either a five-eights inch or three-fourths inch bolt.

(30) The suggestion that an additional flat washer or a three-fourth inch bolt be used with washers with thirteen-sixteenths inch holes was not used because RUS has never received reports that five-eighths inch bolts have slipped through the holes in standard washers.

(31) The reasons why old pole protection assemblies M2-1 and M2-2 were discontinued by RUS was added to the “Specification for Guying Assemblies,”

(32) RUS specifies the installation of anti-split bolts on all non-tangent, primary pole-top assemblies that have double pole-top pins or double post-type insulator brackets. Borrowers may install anti-split bolts on other pole top assemblies at their own discretion; however, the RUS permitted transverse loading on these assemblies must not be increased. Some borrowers have reported to RUS that the installation on anti-split bolts on all pole top assemblies to be advantageous, especially on cedar poles.

(33) Where appropriate, borrowers may replace a cutout (item “af”) and an arrester (item “ae”) with a combination cutout/arrester (item “ax”) without additional review and approval by RUS. The material for the assembly needs to be changed accordingly.

(34) Additional information was added to the “Specifications for Pole Top Assemblies” stating that for NESC Grade B construction, the permitted line angles referenced on the pole top assemblies may need to be reduced based on the design engineer's calculations.

(35) Whereas the drawings for pole top assemblies do not show the permitted transverse load on the assemblies, the subtitles of the tables in Exhibit 1 referenced in the design parameters on the drawings specify the permitted transverse loads.

(36) The alleged errors regarding the “wild leg” and the high side grounding on guide drawing G3.1G were checked and determined to be correct as drawn.

Electronic (pdf) copies of this final rule and the new bulletin are available on the RUS Web site at http://www.usda.gov/rus/electric/regs/index.htm. Electronic and printed copies of the bulletin are also available from Publications Office, Program Development and Regulatory Analysis, Rural Utilities Service, U.S. Department of Agriculture, 1400 Independence Ave., SW., Washington, DC 20250-1522.

List of Subjects in 7 CFR Part 1728

Electric power, Incorporation by reference, Loan programs-energy, Rural areas.

For reasons set out in the preamble, chapter XVII of title 7 of the Code of Federal Regulations, is amended to read as follows:

PART 1728—ELECTRIC STANDARDS AND SPECIFICATIONS FOR MATERIALS AND CONSTRUCTION

1. The authority citation for part 1728 continues to read as follows:

Authority: 7 U.S.C. 901 et seq.; 7 U.S.C. 1921 et seq.; 6941 et seq.

2. Section 1728.97 is amended by:

A. Revising the second sentence in paragraph (a), and

B. Amending paragraph (b) by removing the entries for Bulletin 50-3 and Bulleting 50-6; and adding to the list of bulletins, in numerical order, the entry for Bulletin 1728F-804.

These revisions are to read as follows:

§ 1728.97 Incorporation by reference of electric standards and specifications.

(a) * * * The bulletins containing construction standards (50-4 and 1728F-803 to 1728F-811), may be purchased from the Superintendent of Documents, U.S. Government Printing Office, Washington, DC 20402. * * *

* * * * *

(b) List of Bulletins.

* * * * *

Bulletin 1728F-804 (D-804), Specification and Drawings for 12.47/7.2 kV Line Construction October 2005.

* * * * *

Dated: March 28, 2005.
Curtis M. Anderson,
Acting Administrator, Rural Utilities Service.

[FR Doc. 05-7920 Filed 4-20-05; 8:45 am]

BILLING CODE 3410-15-M